DEPARTMENT OF HEALTH AND HUMAN SERVICES

Centers for Disease Control and Prevention

[30-Day-10-10DT]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

Monitoring and Reporting System for Chronic Disease Prevention and Control Programs—New—National Center for Chronic Disease Prevention and Health Promotion (NCCDPHP), Centers for Disease Control and Prevention (CDC).

Background and Brief Description

Although chronic diseases are among the most common and costly health problems, they are also among the most preventable. The Centers for Disease Control and Prevention (CDC) works with states, territories, tribal organizations, and the District of Columbia (collectively referred to as “state-based” programs) to develop, implement, manage, and evaluate chronic disease prevention and control programs. Support and guidance for these programs have been provided through cooperative agreement funding and technical assistance, administered by CDC's National Center for Chronic Disease Prevention and Health Promotion (NCCDPHP). Partnerships and collaboration with other Federal agencies, nongovernmental organizations, local communities, public and private sector organizations, and major voluntary associations have been critical to the success of these efforts.

CDC seeks OMB approval for three years to collect progress and activity information from health departments funded for four program areas: Tobacco control, diabetes prevention and control, Healthy Communities, and state-based behavioral risk factor surveillance. Information will be collected electronically through a new, electronic Management Information System (MIS). Information will be collected on each program area's objectives, planning activities, resources, partnerships, policy and environmental strategies for preventing or controlling chronic diseases, and progress toward meeting goals. The new MIS harmonizes the progress reporting framework for all program areas and will support the collection of accurate, reliable, uniform and timely information. The MIS will generate a variety of routine and customizable reports that will allow each State or program to summarize its activities and progress. CDC will also have the capacity to generate reports that describe activities across multiple States and/or programs. The new MIS will replace two previously approved systems used by tobacco control programs (OMB No. 0920-0601, exp. 5/31/2010) and diabetes prevention and control programs (OMB No. 0920-0479, exp. 4/30/2013), which are being phased out.

CDC will use the information collection to monitor each program's progress and use of federal funds, to identify strengths and weaknesses, to make adjustments in the type and level of technical assistance provided to programs, and to respond to inquiries. Respondents will use the information collection to manage and coordinate their activities and to improve their efforts to prevent and control chronic diseases.

The initial set of respondents will be health departments in all 50 states, the District of Columbia, Puerto Rico, and the U.S. Virgin Islands. All awardees will report on tobacco control, diabetes prevention and control, behavioral risk factor surveillance, and Healthy Communities, with the exception of the District of Columbia, which is not currently participating in Healthy Communities.

Information will be collected electronically twice per year. There are no costs to respondents other than their time. The total estimated annualized burden hours are 2,532.

Estimated Annualized Burden to Respondents
Type of respondents | Number of respondents | Number of responses per respondent | Average burden per response (in hours)
State Diabetes Program | 53 | 2 | 6
State Tobacco Program | 53 | 2 | 6
State BRFSS Program | 53 | 2 | 6
State Healthy Communities Program | 52 | 2 | 6

Dated: July 9, 2010.
Thelma Sims,
Reports Clearance Officer, Centers for Disease Control and Prevention.

[FR Doc. 2010-17265 Filed 7-14-10; 8:45 am]

BILLING CODE 4163-18-P